DEPARTMENT OF ENERGY

Western Area Power Administration

Parker-Davis Project—Post-2008 Resource Pool

AGENCY: Western Area Power Administration, DOE.

ACTION: Notice of extension of comment and application period.

SUMMARY: The Western Area Power Administration (Western), a Federal power marketing agency of the Department of Energy (DOE), published a notice of proposed procedures and call for applications, Parker-Davis Project—Post-2008 Resource Pool in the Federal Register on October 1, 2004. This notice extends the filing date for the submission of comments on the proposed procedures for allocating the Parker-Davis Project Post-2008 resource pool power, along with the date for filing applications for an allocation of power from the resource pool, for a period of 30 days.

DATES: Entities interested in commenting on proposed procedures must submit written comments to Western's Desert Southwest Regional Office at the address below. Entities applying for an allocation of Parker-Davis Project power must submit an application to the address below. Western will accept written comments and/or applications received on or before January 30, 2005. Western reserves the right to not consider any comments and/or applications received after this date.

ADDRESSES: Submit applications for an allocation of Parker-Davis Project power and written comments regarding the proposed procedures to Mr. J. Tyler Carlson, Regional Manager, Desert Southwest Region, Western Area Power Administration, P.O. Box 6457, Phoenix, AZ 85005-6457. You may also fax applications or comments to Western at (602) 352-2490 or e-mail them to post2008pdp@wapa.gov. Application forms are available upon request or may be accessed at http://www.wapa.gov/dsw/pwrmkt/FRN. Applicants are encouraged to use the application form provided at the above Web site.

FOR FURTHER INFORMATION CONTACT: Roy Tinsley, Project Manager, Desert Southwest Region, Western Area Power Administration, 615 South 43rd Ave, Phoenix, AZ 85005, telephone (602) 352-2788, e-mail post2008pdp@wapa.gov.

The current Parker-Davis Project (P-DP) marketing plan and related information are available online at http://www.wapa.gov/dsw/pwrmkt. Western will also post all public comments from this process on this Web site after the close of the comment period.

SUPPLEMENTARY INFORMATION: In the Federal Register notice published on October 1, 2004 (69 FR 58900), Western established a due date of 90 days after publication or December 30, 2004, for receipt of comments on proposed procedures and applications for allocations of Parker-Davis Project resource pool power. At the Public Comment Forum held on December 1, 2004, Western received a request to extend the time allowed for submission of applications. As a result of this request, Western has determined to extend the comment and application period for 30 days.

Dated: December 20, 2004.
Michael S. Hacskaylo,
Administrator.

[FR Doc. 04-28607 Filed 12-29-04; 8:45 am]

BILLING CODE 6450-01-P